DEPARTMENT OF LABOR

Employment and Training Administration

[TA-W-54,581]

Baxter International Corporation Formerly Action West/Don Shapiro Industries El Paso, TX; Notice of Termination of Investigation

Pursuant to section 221 of the Trade Act of 1974, as amended, an investigation was initiated on March 15, 2004, in response to a petition filed on behalf of workers of Action West, Don Shapiro, Baxter Corporation, El Paso, Texas.

The investigation revealed that the workers are former employees of Don Shapiro Industries, doing business as Action West, El Paso, Texas. Since Baxter International is a successor firm, the existing certification, TA-W-50,186, is amended this date to include the workers of Baxter International Corporation. Consequently, this investigation is terminated.

Signed at Washington, DC, this 27th day of April 2004.
Linda G. Poole,
Certifying Officer, Division of Trade Adjustment Assistance.

[FR Doc. 04-10867 Filed 5-12-04; 8:45 am]

BILLING CODE 4510-30-P